DEPARTMENT OF DEFENSE

Office of the Secretary of Defense

[DOD-2006-OS-0208]

Privacy Act of 1974; System of Records

AGENCY: Office of the Secretary, DoD.

ACTION: Notice To Alter a System of Records.

SUMMARY: The Office of the Secretary of Defense is altering a system of records to its existing inventory of record systems subject to the Privacy Act of 1974 (5 U.S.C. 552a), as amended.

DATES: The changes will be effective on December 1, 2006 unless comments are received that would result in a contrary determination.

ADDRESSES: Send comments to the OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted October 17, 2006, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: October 26, 2006.
C.R. Choate,
Alternate OSD Federal Register Liaison Officer, Department of Defense.

DODDS 26

System name:

DoD Domestic and Elementary School Program Files (May 9 2003, 68 FR 24935).

Changes:

System identifier:

Delete entry and replace with: “DoDEA 26”

System name:

Delete entry and replace with: “Department of Defense Education Activity Dependent Children's School Program Files”

System Location:

Delete entry and replace with: “DoDEA Headquarters Office; DoDEA Area (DoDDS-Europe, DoDDS-Pacific, and DDESS) offices and school districts. Specific addresses for each Area office and school district may be obtained from the DoDEA Web site at www.dodea.edu. or from the DoDEA, Headquarters office, 4040 North Fairfax Drive, Arlington, VA 22203-1634, telephone 703 588-3200.”

Categories of individuals covered by the system:

Delete entry and replace with: “Current and former students in schools operated by DoDEA, world-wide.”

Categories of records in the system:

Delete entry and replace with: “School Student Record Files.” Information includes records of student (name, Social Security Number, date of birth, citizenship, etc.) and sponsor identifiers and sponsor's permanent address, student performance, achievements and recognition (academic, citizenship, and athletic), standardized achievement tests scores and grades; reading records, letters of recommendation, parental correspondence, related information, and similar records. In addition, records may include the following:

Health Record Files. Includes student health records, immunization records, parental permission forms, screening results, sports physicals, physician referrals, medication instructions, consent forms, copies of accident reports, and similar records.

School Special Education Files. Information pertaining to special education programs to include preferrals and referral forms and, when appropriate, samples of student's work; Individual Education Plans; Case Study Committee reports and minutes; test results and protocols; disciplinary records, behavior plans and related information; assessment and evaluation reports; correspondence between teachers, service providers and/or parents; file access records and cross-reference location information; results of special education administrative hearings and other informal and formal conflict resolution procedures, such as mediated agreements or settlement documents; related service-provider reports, and teacher notes relevant to the child's special education program or needs.

School Ancillary Service Files. Information on non-special education supplemental student services, such as: Gifted Program, English as a Second Language (ESL), Compensatory Education, Reading Improvement to include consultation and referrals, test protocols, assessments and evaluation plans and results, progress and evaluation reports and summaries, teachers' notes, general correspondence, and samples of student's work, and related information.

School Registration Card Files. Sponsor and/or pupil registration cards reflecting student and sponsor social security numbers, grade/rank enrollment verification, sponsoring agency, emergency locator information, and similar files.

Teacher Class Register Files. Grade books reflecting scholastic marks and averages, teacher comments and/or notes, student attendance and withdrawal information, and similar files.

Transcript Files. Information consists solely of the student's permanent records (transcripts) reflecting student name and social security number, grades, course titles, credits, and similar related information.

Transcript Request Files and other Disclosure Files. Request forms and correspondence authorizing release of transcript and other school student record files.

Report Card Files. Report cards that reflect scholastic grades, promotion, retention.

Attendance and Discipline Files. Information reflecting attendance and disciplinary actions, to include teacher referrals, tardy and/or admission slips, correspondence to and from parents, student and/or witness statements, and school investigative files, and similar related information.

System Wide Assessment Files. System Wide Assessment results for individual students and aggregated results for classrooms, schools, districts and areas.

School Mediation Agreement and Hearing Results Files. Material on mediations and hearings other than that contained in the individual student record.”

Authority for maintenance of the system:

Delete entry and replace with: “10 U.S.C. 2164, DoD Domestic Dependent Elementary and Secondary Schools; 10 U.S.C. 113, Secretary of Defense; 20 U.S.C. 921-932, Overseas Defense Dependent's education; and E.O. 9397 (SSN).”

Purpose(s):

Delete entry and replace with: “The purpose of this system is to determine enrollment eligibility and tuition status in DoDEA and DoDEA funded non-DoD schools; schedule children for classes and transportation; record attendance, absence and withdrawal; record and monitor student progress, grades, course and grade credits, services, school activities, student awards, special interests, hobbies and accomplishments; develop an appropriate educational program, services and placement; provide information for enrollment and student financial aid for post-DoDEA education and employment; obtain and preserve school academic and athletic accreditation; to provide directory information to military recruiters; to perform other related authorized educational duties required.”

Routine uses of records maintained in the system, including categories of users and the purposes of such uses:

Delete entry and replace with: “In addition to those disclosures generally permitted under 5 U.S.C. 552a(b) of the Privacy Act, these records or information contained therein may specifically be disclosed outside the DoD as a routine use pursuant to 5 U.S.C. 552a(b)(3) as follows:

To a non-DoD school, upon request, in which the child is enrolled when the child is enrolled in the school at DoD expense.

To Federal and State educational agencies and public and private entities as needed to complete a student's application for or receipt of financial aid.

To Federal, State, and/local governmental officials to protect health and safety in the event of emergencies.

To public and private organizations conducting studies on or on behalf of DoDEA.

To State and local social service offices relative to law enforcement inquiries and investigations and child placement/support proceedings.

To private individuals, who have been appointed to DoDEA school Boards, advisory committees, student disciplinary committees, school improvement teams, and similar committees established by DoDEA, to perform authorized DoDEA activities or functions.

The DoD ‘Blanket Routine Uses’ set forth at the beginning of the OSD compilation of systems of records notices also apply to this system.”

Policies and practices for storing, retrieving, accessing, retaining, and disposing of records in the system:

Storage:

Delete entry and replace with: “Records are maintained in file folders, microfilm, disks, magnetic tape, and other electronic storage media.”

Retrievability:

Add the following to the entry “Social Security Number (SSN), date of birth, and student number.”

Safeguards:

Delete entry and replace with: “Access is provided on a ‘need-to-know' basis and to authorized authenticated personnel only. Records are maintained in controlled access rooms or areas. Computer terminal access is controlled by terminal identification and the password or similar system. Terminal identification is positive and maintained by control points. Physical access to terminals is restricted to specifically authorized individuals. Password authorization, assignment and monitoring are the responsibility of the functional managers.”

Retention and disposal:

Delete entry and replace with: “School Student Record Files. ‘Destroy/delete files other than secondary transcripts of all information except, report cards or other records of academic promotion or retention data after 1 year. Destroy or delete all non secondary transcript files 3-5 years after graduation, transfer, withdrawal, or death of student. Secondary School Transcripts will be cut off upon transfer, withdrawal, or death of student. Secondary Transcript files are destroyed when 50 years old. DoDDS student records are retained at the school for four years following the graduation, transfer, withdrawal, or death of student or until school closure whichever occurs first, and are then transferred to the Area for one year, and then are transferred to the DoDEA Records Center at Fort Benning, Georgia, until destroyed. DDESS student records are stored at the school until destroyed. Panama student records are stored at the DoDEA Records Center at Fort Benning, Georgia, until destroyed.’ All other records included in this data base follow the disposition schedules of the following files:

Health Record Files. Place in student record file upon transfer, withdrawal, or death of student.

School Special Education Files. Destroy/Delete when 5 years old. Cut off on graduation, transfer, withdrawal or death of student.

Ancillary Service Files. Transfer to student record file upon transfer, withdrawal, or death of student.

Registration Card Files. Transfer current card to student record file upon graduation, transfer, withdrawal, or death of student. (Supporting documents used to determine eligibility, such as sponsor's orders, birth certificates, custody documents, housing documents (CONUS), and similar documents may be destroyed). A copy of current card is maintained in the student record file to authorize release of records. Destroy when superseded.

Teacher Class Register Files. Destroy/Delete when 1 year old. Cut off at end of school year.

Master Student List Files. Destroy/Delete when 25 years. Cut off at end of school year and retain in the CFA.

Transcript Files. Maintain transcripts IAW School Student Record Files.

Transcript Request Files. Destroy/Delete when 2 years old. Cut off at end of school year.

Secondary Report Card Files. Transfer to student record file upon TWD of student.

Attendance and Discipline Files. Destroy/delete when one year old. Cut off at end of school year.

System Wide Assessment Files. Destroy after 6 years. Individual reports maintained with the student records shall be retained in accordance with the disposition instructions in FN 1005-06 (School Student Record Files).

School Mediation Agreement and Hearing Results Files. Destroy/Delete when 20 years old. Cut off after final decision. Retire OSD-related records to the FRC when 5 years old.

Panama Student Records File. Destroy when 50 years old.

Records stored at the schools; DoDEA Records Center, 7441 Custer Road, Building 2670, Fort Benning, GA 31905; and Thompson Learning, Inc. (contractor) 2000 Lenox Drive, Lawrenceville, NJ 08648. Destroy when 50 years old.”

System manager(s) and address:

Add the following to the entry: “Area school district system manager addresses may be obtained from the Office of the Director, DoDEA, 4040 North Fairfax Drive, Arlington, VA 22203-1634 or by visiting the Web site www.dodea.edu.”

Notification procedure:

Delete entry and replace with: “Individuals seeking to determine whether this system contains information about themselves should address written inquiries to Area or District Systems Managers or the Privacy Act Officer, Department of Defense Education Activity, 4040 North Fairfax Drive, Arlington, VA 22203-1635.

Written requests for information should contain the full name, name used at time of school attendance, date of birth, identity and location of school attended, dates of attendance, and signature.”

Record access procedures:

Delete entry and replace with: “Individuals seeking access to information about themselves contained in this system should address written inquiries to Area or District Systems Managers or the Privacy Act Officer, Department of Defense Education Activity, 4040 North Fairfax Drive, Arlington, VA 22203-1635.

Written requests for access should contain the full name, name used at time of school attendance, date of birth, identity and location of school attended, dates of attendance, and signature.

Parents or legal guardians of a student may be given access to the Children's School Program Files records without regard to who has custody of the child, unless the child is age 18 or over, or a court has directed otherwise.”

Record source categories:

Delete entry and replace with: “Individuals, school teachers, principals and administrators; counselors, medical personnel, parents/guardians, occupational and physical therapists, testing materials and activities, other educational facilities, medical facilities, (examinations and assessments), military commanders and installation activities.”

* * * * *

DoDEA 26

System name:

Department of Defense Education Activity Dependent Children's School Program Files.

System location:

DoDEA Headquarters Office DoDEA Area (DoDDS-Europe, DoDDS-Pacific, and DDESS) offices and school districts. Specific addresses for each Area office and school districts may be obtained from the DoDEA Web site at www.dodea.edu. or from the DoDEA, Headquarters office, 4040 North Fairfax Drive, Arlington, VA 22203-1634, telephone 703 588-3200.

Categories of individuals covered by the system:

Current and former students in schools operated by DoDEA, world-wide.

Categories of records in the system:

School Student Record Files. Information includes records of student (name, Social Security Number, date of birth, citizenship, etc.) and sponsor identifiers and sponsor's permanent address, student performance, achievements and recognition (academic, citizenship, and athletic), standardized achievement tests scores and grades; reading records, letters of recommendation, parental correspondence, related information, and similar records. In addition, records may include the following:

Health Record Files. Includes student health records, immunization records, parental permission forms, screening results, sports physicals, physician referrals, medication instructions, consent forms, copies of accident reports, and similar records.

School Special Education Files. Information pertaining to special education programs to include preferrals and referral forms and, when appropriate, samples of student's work; Individual Education Plans; Case Study Committee reports and minutes; test results and protocols; disciplinary records, behavior plans and related information; assessment and evaluation reports; correspondence between teachers, service providers and/or parents; file access records and cross-reference location information; results of special education administrative hearings and other informal and formal conflict resolution procedures, such as mediated agreements or settlement documents; related service-provider reports, and teacher notes relevant to the child's special education program or needs.

School Ancillary Service Files. Information on non-special education supplemental student services, such as: Gifted Program, English as a Second Language (ESL), Compensatory Education, Reading Improvement to include consultation and referrals, test protocols, assessments and evaluation plans and results, progress and evaluation reports and summaries, teachers' notes, general correspondence, and samples of student's work, and related information.

School Registration Card Files. Sponsor and/or pupil registration cards reflecting student and sponsor social security numbers, grade/rank enrollment verification, sponsoring agency, emergency locator information, and similar files.

Teacher Class Register Files. Grade books reflecting scholastic marks and averages, teacher comments and/or notes, student attendance and withdrawal information, and similar files.

Transcript Files. Information consists solely of the student's permanent records (transcripts) reflecting student name and social security number, grades, course titles, credits, and similar related information.

Transcript Request Files and other Disclosure Files. Request forms and correspondence authorizing release of transcript and other school student record files.

Report Card Files. Report cards that reflect scholastic grades, promotion, retention.

Attendance and Discipline Files. Information reflecting attendance and disciplinary actions, to include teacher referrals, tardy and/or admission slips, correspondence to and from parents, student and/or witness statements, and school investigative files, and similar related information.

System Wide Assessment Files. System Wide Assessment results for individual students and aggregated results for classrooms, schools, districts and areas.

School Mediation Agreement and Hearing Results Files. Material on mediations and hearings other than that contained in the individual student record.

Authority for maintenance of the system:

10 U.S.C. 2164, DoD Domestic Dependent Elementary and Secondary Schools; 10 U.S.C. 113, Secretary of Defense; 20 U.S.C. 921-932, Overseas Defense Dependent's education; and E.O. 9397 (SSN).

Purpose(s):

The purpose of this system is to determine enrollment eligibility and tuition status in DoDEA and DoDEA funded non-DoD schools; schedule children for classes and transportation; record attendance, absence and withdrawal; record and monitor student progress, grades, course and grade credits, services, school activities, student awards, special interests, hobbies and accomplishments; develop an appropriate educational program, services and placement; provide information for enrollment and student financial aid for post-DoDEA education and employment; obtain and preserve school academic and athletic accreditation; to provide directory information to military recruiters; to perform other related authorized educational duties required.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To a non-DoD school, upon request, in which the child is enrolled when the child is enrolled in the school at DoD expense.

To Federal and State educational agencies and public and private entities as needed to complete a student's application for or receipt of financial aid.

To Federal, State, and/local governmental officials to protect health and safety in the event of emergencies.

To public and private organizations conducting studies on or on behalf of DoDEA.

To State and local social service offices relative to law enforcement inquiries and investigations and child placement/support proceedings.

To private individuals, who have been appointed to DoDEA school Boards, advisory committees, student disciplinary committees, school improvement teams, and similar committees established by DoDEA, to perform authorized DoDEA activities or functions.

The DoD ‘Blanket Routine Uses’ set forth at the beginning of the OSD compilation of systems of records notices also apply to this system.

Policies and practices for storing, retrieving, accessing, retaining, and disposing of records in the system:

Storage:

Records are maintained in file folders, microfilm, disks, magnetic tape, and other electronic storage media.

Retrievability:

By student surname, Social Security Number (SSN), date of birth, and student number.

Safeguards:

Access is provided on a ‘need-to-know’ basis and to authorized authenticated personnel only. Records are maintained in controlled access rooms or areas. Computer terminal access is controlled by terminal identification and the password or similar system. Terminal identification is positive and maintained by control points. Physical access to terminals is restricted to specifically authorized individuals. Password authorization, assignment and monitoring are the responsibility of the functional managers.

Retention and disposal:

School Student Record Files. ‘Destroy/delete files other than secondary transcripts of all information except, report cards or other records of academic promotion or retention data after 1 year. Destroy or delete all non secondary transcript files 3-5 years after graduation, transfer, withdrawal, or death of student. Secondary School Transcripts will be cut off upon transfer, withdrawal, or death of student. Secondary Transcript files are destroyed when 50 years old. DoDDS student records are retained at the school for four years following the graduation, transfer, withdrawal, or death of student or until school closure whichever occurs first, and are then transferred to the Area for one year, and then are transferred to the DoDEA Records Center at Fort Benning, Georgia, until destroyed. DDESS student records are stored at the school until destroyed. Panama student records are stored at the DoDEA Records Center at Fort Benning, Georgia, until destroyed.’ All other records included in this database follow the disposition schedules of the following files:

Health Record Files. Place in student record file upon transfer, withdrawal, or death of student.

School Special Education Files. Destroy/Delete when 5 years old. Cut off on graduation, transfer, withdrawal or death of student.

Ancillary Service Files. Transfer to student record file upon transfer, withdrawal, or death of student.

Registration Card Files. Transfer current card to student record file upon graduation, transfer, withdrawal, or death of student. Supporting documents used to determine eligibility, such as sponsor's orders, birth certificates, custody documents, housing documents (CONUS), and similar documents may be destroyed). A copy of current card is maintained in the student record file to authorize release of records. Destroy when superseded.

Teacher Class Register Files. Destroy/Delete when 1 year old. Cut off at end of school year.

Master Student List Files. Destroy/Delete when 25 years. Cut off at end of school year and retain in the CFA.

Transcript Files. Maintain transcripts IAW School Student Record Files.

Transcript Request Files. Destroy/Delete when 2 years old. Cut off at end of school year.

Secondary Report Card Files. Transfer to student record file upon TWD of student.

Attendance and Discipline Files. Destroy/Delete when one year old. Cut off at end of school year.

System Wide Assessment Files. Destroy after 6 years. Individual reports maintained with the student records shall be retained in accordance with the disposition instructions in FN 1005-06 (School Student Record Files).

School Mediation Agreement and Hearing Results Files. Destroy/Delete when 20 years old. Cut off after final decision. Retire OSD-related records to the FRC when 5 years old.

Panama Student Records File. Destroy when 50 years old.

Records stored at the schools; DoDEA Records Center, 7441 Custer Road, Building 2670, Fort Benning, GA 31905; and Thompson Learning, Inc. (contractor) 2000 Lenox Drive, Lawrenceville, NJ 08648. Destroy when 50 years old.

System manager(s) and address:

Area school district system manager addresses may be obtained from the Office of the Director, DoDEA, 4040 North Fairfax Drive, Arlington, VA 22203-1634 or by visiting the Web site www.dodea.edu.

Notification procedure:

Individuals seeking to determine whether this system contains information about themselves should address written inquiries to Area or District Systems Managers or the Privacy Act Officer, Department of Defense Education Activity, 4040 North Fairfax Drive, Arlington, VA 22203-1635.

Written requests for information should contain the full name, name used at time of school attendance, date of birth, identity and location of school attended, dates of attendance, and signature.

Record access procedures:

Individuals seeking access to information about themselves contained in this system should address written inquiries to Area or District Systems Managers or the Privacy Act Officer, Department of Defense Education Activity, 4040 North Fairfax Drive, Arlington, VA 22203-1635.

Written requests for access should contain the full name, name used at time of school attendance, date of birth, identity and location of school attended, dates of attendance, and signature.

Parents or legal guardians of a student may be given access to the Children's School Program Files records without regard to who has custody of the child, unless the child is age 18 or over, or a court has directed otherwise.

Contesting records procedures:

The OSD rules for accessing records, for contesting contents and appealing initial agency determinations are contained in OSD Administrative Instruction 81; 32 CFR part 311; or may be obtained from the system manager.

Record source categories:

Individuals, school teachers, principals and administrators; counselors, medical personnel, parents/guardians, occupational and physical therapists, testing materials and activities, other educational facilities, medical facilities, (examinations and assessments), military commanders and installation activities.

Exemptions claimed for the system:

None.

[FR Doc. E6-18360 Filed 10-31-06; 8:45 am]

BILLING CODE 5001-06-P